DEPARTMENT OF ENERGY

Federal Energy Regulatory Commission

Combined Notice of Filings #1

Take notice that the Commission received the following electric rate filings:

Docket Numbers: ER15-1196-003.

Applicants: Nevada Power Company, Sierra Pacific Power Company.

Description: Supplement to July 13, 2015 Compliance Filing of Nevada Power Company and Sierra Pacific Power Company.

Filed Date: 11/30/15.

Accession Number: 20151130-5460.

Comments Due: 5 p.m. ET 12/21/15.

Docket Numbers: ER15-2641-001.

Applicants: ISO New England Inc.

Description: Compliance filing: Notice of Effective Date for CTS, Compliance and Conforming Filing to be effective 12/15/2015.

Filed Date: 12/1/15.

Accession Number: 20151201-5105.

Comments Due: 5 p.m. ET 12/22/15.

Docket Numbers: ER16-426-000.

Applicants: Fairless Energy, LLC.

Description: Compliance filing: Compliance Filing—Removal of Affiliate Waiver to be effective 11/1/2015.

Filed Date: 11/30/15.

Accession Number: 20151130-5285.

Comments Due: 5 p.m. ET 12/21/15.

Docket Numbers: ER16-427-000.

Applicants: Entergy Louisiana, LLC.

Description: § 205(d) Rate Filing: EGSL-SRMPA 5th Extension of Interim Agreement to be effective 12/1/2015.

Filed Date: 11/30/15.

Accession Number: 20151130-5284.

Comments Due: 5 p.m. ET 12/21/15.

Docket Numbers: ER16-428-000.

Applicants: New England Power Pool Participants Committee.

Description: § 205(d) Rate Filing: Nov 30 2015 Membership Filing to be effective 11/1/2015.

Filed Date: 11/30/15.

Accession Number: 20151130-5273.

Comments Due: 5 p.m. ET 12/21/15.

Docket Numbers: ER16-429-000.

Applicants: PJM Interconnection, L.L.C.

Description: § 205(d) Rate Filing: Original Designated Entity Agreement, SA No. 4310 among PJM and Northeast to be effective 10/29/2015.

Filed Date: 11/30/15.

Accession Number: 20151130-5272.

Comments Due: 5 p.m. ET 12/21/15.

Docket Numbers: ER16-430-000.

Applicants: Southwest Power Pool, Inc.

Description: § 205(d) Rate Filing: Bylaws 9.7 Revisions to Expand Regional Entity Trustees to be effective 1/29/2016.

Filed Date: 11/30/15.

Accession Number: 20151130-5268.

Comments Due: 5 p.m. ET 12/21/15.

Docket Numbers: ER16-431-000.

Applicants: Virginia Electric and Power Company.

Description: Compliance filing: Compliance Filing—VEPCO Removal of Affiliate Waiver to be effective 11/1/2015.

Filed Date: 11/30/15.

Accession Number: 20151130-5307.

Comments Due: 5 p.m. ET 12/21/15.

Docket Numbers: ER16-432-000.

Applicants: Midcontinent Independent System Operator, Inc.

Description: § 205(d) Rate Filing: 2015-11-30_RPU RTO Adder Filing to be effective 2/1/2016.

Filed Date: 11/30/15.

Accession Number: 20151130-5328.

Comments Due: 5 p.m. ET 12/21/15.

Docket Numbers: ER16-433-000.

Applicants: Virginia Electric and Power Company.

Description: Compliance filing: Compliance Filing—Removal of Affiliate Waiver to be effective 11/1/2015.

Filed Date: 11/30/15.

Accession Number: 20151130-5344.

Comments Due: 5 p.m. ET 12/21/15.

Docket Numbers: ER16-434-000.

Applicants: Nevada Power Company.

Description: § 205(d) Rate Filing: Rate Schedule No. 142 Dynamic Scheduling Agreement Amendment—Transfer to be effective 12/1/2015.

Filed Date: 11/30/15.

Accession Number: 20151130-5345.

Comments Due: 5 p.m. ET 12/21/15.

Docket Numbers: ER16-435-000.

Applicants: Wabash Valley Power Association, Inc.

Description: Baseline eTariff Filing: Wabash Valley Power Association—MISO Reactive Tariff to be effective 2/1/2016.

Filed Date: 11/30/15.

Accession Number: 20151130-5351.

Comments Due: 5 p.m. ET 12/21/15.

Docket Numbers: ER16-436-000.

Applicants: Old Dominion Electric Cooperative, Inc.

Description: Request of Old Dominion Electric Cooperative for Waiver of Notice Requirement.

Filed Date: 11/30/15.

Accession Number: 20151130-5362.

Comments Due: 5 p.m. ET 12/21/15.

Docket Numbers: ER16-437-000.

Applicants: Midcontinent Independent System Operator, Inc.

Description: § 205(d) Rate Filing: 2015-12-01_SA 2874 ATC Transmission Capacity Exchange Agreement to be effective 10/30/2015.

Filed Date: 12/1/15.

Accession Number: 20151201-5112.

Comments Due: 5 p.m. ET 12/22/15.

Docket Numbers: ER16-438-000.

Applicants: Marshall Wind Energy LLC.

Description: Baseline eTariff Filing: Marshall Wind MBRA Filing to be effective 1/30/2016.

Filed Date: 12/1/15.

Accession Number: 20151201-5114.

Comments Due: 5 p.m. ET 12/22/15.

Docket Numbers: ER16-439-000.

Applicants: Midcontinent Independent System Operator, Inc.

Description: § 205(d) Rate Filing: 2015-12-01_SA 2875 ATC Operations and Maintenance Agreement to be effective 10/30/2015.

Filed Date: 12/1/15.

Accession Number: 20151201-5116.

Comments Due: 5 p.m. ET 12/22/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 1, 2015.
Nathaniel J. Davis, Sr.,
Deputy Secretary.

[FR Doc. 2015-30735 Filed 12-4-15; 8:45 am]

BILLING CODE 6717-01-P